ENVIRONMENTAL PROTECTION AGENCY

[FRL-7415-9]

OSWER 9355.0-85 Contaminated Sediment Remediation Guidance for Hazardous Waste Sites; Request for Comment on Draft Guidance

AGENCY: Environmental Protection Agency (EPA).

ACTION: Notice.

SUMMARY: The EPA Office of Solid Waste and Emergency Response (OSWER) is requesting comments on OSWER 9355.0-85, the draft “Contaminated Sediment Remediation Guidance for Hazardous Waste Sites.” EPA will accept comments on all aspects of the draft guidance, but comments are specifically solicited for the following topics: Approaches to sediment characterization; evaluation methods for sediment stability; measurement methods for natural recovery processes; methods to reduce dredging resuspension and residual contamination; new in-situ technologies; and monitoring methods. Comments received may be used to revise the draft guidance or to assist with future EPA guidance on this topic. A written response to comments will not be issued.

DATES: Comments are due on or before March 3, 2003.

ADDRESSES: This draft guidance is available electronically at: http://www.epa.gov/superfund/resources/sediment. A limited number of copies on compact disk (CD) may be requested by electronic mail to the address below. Comments may be submitted electronically, by mail, through hand delivery/courier, or by facsimile.

1. By Email. You may submit comments or requests by electronic mail to evison.leah@epa.gov. Please include “Sediment Guidance” in the topic line of your email and include the sender's address in the body of the message.

2. By U.S. Mail. Send comments to: Leah Evison, U.S. EPA Headquarters, Mail Code 5204G, 1200 Pennsylvania Ave., NW., Washington, DC 20460, Attention: Sediment Guidance Comments.

3. By Hand Delivery/Courier. Deliver comments to: Leah Evison, U.S. EPA Crystal Gateway (12th fl. Customer Service Desk), 1235 Jefferson Davis Highway, Arlington, VA 22202, Attention: Sediment Guidance Comments

4. By Facsimile. Fax your comments to: (703) 603-9100, Attention: Leah Evison, Sediment Guidance Comments.

FOR FURTHER INFORMATION CONTACT: Stephen Ells, phone (703) 603-8822, Sediment Team Leader, Office of Emergency and Remedial Response (Mail Code 5204G), U.S. Environmental Protection Agency, 1200 Pennsylvania Avenue, NW., Washington, DC 20460.

SUPPLEMENTARY INFORMATION: EPA is authorized under the Comprehensive Environmental Response, Compensation, and Liability Act (CERCLA) and the Resource Conservation and Recovery Act (RCRA) to respond to releases of hazardous substances. The draft Contaminated Sediment Remediation Guidance for Hazardous Waste Sites provides technical and policy guidance for project managers and management teams making risk management decisions for contaminated sediment sites. The purpose of the guidance is to increase project managers' understanding of sediment environments and all potential cleanup methods for sediment and to improve national consistency in decision-making for sediment sites. It is primarily intended for project managers considering remedial response actions or non-time-critical removal actions under CERCLA, or more commonly known as Superfund, although technical aspects of the guidance are also intended to assist project managers addressing sediment contamination under RCRA.

Following the introductory chapter (Chapter 1), the guidance presents information concerning sediment-specific considerations during the Remedial Investigation (Chapter 2) and the Feasibility Study (Chapter 3); information concerning evaluation of the three major cleanup methods for sediment, Monitored Natural Recovery, In-Situ Capping, and Dredging and Excavation (Chapters 4, 5 and 6); information about selecting sediment remedies (Chapter 7) and about monitoring sediment sites (Chapter 8). Although some issues concerning site characterization and risk are discussed early in the guidance, the emphasis of this guidance is on evaluating and selecting cleanup methods for contaminated sediment.

Dated: November 12, 2002.
Marianne Lamont Horinko,
Assistant Administrator, Office of Solid Waste and Emergency Reponse.

[FR Doc. 02-30598 Filed 12-2-02; 8:45 am]

BILLING CODE 6560-50-P